DEPARTMENT OF TRANSPORTATION

Federal Motor Carrier Safety Administration

[Docket No. FMCSA-2006-26367]

Motor Carrier Safety Advisory Committee Public Meeting

AGENCY: Federal Motor Carrier Safety Administration (FMCSA), DOT.

ACTION: Notice of Motor Carrier Safety Advisory Committee meeting.

SUMMARY: FMCSA announces that the Motor Carrier Safety Advisory Committee (MCSAC) will hold a committee meeting. The meeting is open to the public.

DATES: The meeting will be held on September 2, 2009, from 1 p.m. to 4 p.m. Eastern Daylight Time (EDT).

ADDRESSES: The meeting will be held at the U.S. Department of Transportation, Conference Center, Oklahoma Room, West Building, Ground Floor, located at 1200 New Jersey Avenue, SE., Washington, DC 20590.

FOR FURTHER INFORMATION CONTACT: Mr. Jeffrey Miller, Chief, Strategic Planning and Program Evaluation Division, Office of Policy Plans and Regulation, Federal Motor Carrier Safety Administration, U.S. Department of Transportation, 1200 New Jersey Avenue, SE., Washington, DC 20590, (202) 366-1258, mcsac@dot.gov.

SUPPLEMENTARY INFORMATION:

I. Background

Section 4144 of the Safe, Accountable, Flexible, Efficient Transportation Equity Act: A Legacy for Users (SAFETEA-LU, Pub. L. 109-59) required the Secretary of the U.S. Department of Transportation to establish a MCSAC in the FMCSA. The advisory committee provides advice and recommendations to the FMCSA Administrator on motor carrier safety programs and motor carrier safety regulations. The advisory committee operates in accordance with the Federal Advisory Committee Act (5 U.S.C. App 2) and is comprised of 15 members appointed by the FMCSA Administrator.

II. Meeting Participation

The meeting is open to the public and FMCSA invites participation by all interested parties, including motor carriers, drivers, and representatives of motor carrier associations. Please note that attendees will need to be pre-cleared in advance of the meeting in order to expedite entry into the building. By August 26, 2009, please e-mail mcsac@dot.gov if you plan to attend the meeting to facilitate the pre-clearance security process. For information on facilities or services for individuals with disabilities or to request special assistance, please e-mail your request to mcsac@dot.gov by August 26, 2009. As a general matter, the advisory committee will make time available for public comments at the meeting at 3 p.m. EDT. The time available will be reasonably divided among those who have signed up to address the advisory committee; however, no one will have more than 15 minutes. Individuals wishing to address the advisory committee should send an e-mail to mcsac@dot.gov by close of business on August 28, 2009. Individuals with a desire to present written materials to the advisory committee should submit written comments identified by Federal Docket Management System (FDMC) Docket Number FMCSA-2006-26367 using any of the following methods:

• Federal eRulemaking Portal: Go to http://www.regulations.gov. Follow the online instructions for submitting comments.

• Fax: 202-493-2251.

• Mail: Docket Management Facility, U.S. Department of Transportation, 1200 New Jersey Avenue, SE., West Building, Room W12-140, Washington, DC 20590.

• Hand Delivery: U.S. Department of Transportation, 1200 New Jersey Avenue, SE., Room W12-140, Washington, DC, between 9 a.m. and 5 p.m., Monday through Friday, except Federal holidays.

Issued on: August 4, 2009.
Larry W. Minor,
Associate Administrator for Policy and Program Development.

[FR Doc. E9-19237 Filed 8-10-09; 8:45 am]

BILLING CODE 4910-EX-P